ENVIRONMENTAL PROTECTION AGENCY

[FRL—9222-01-OA]

Notification of a Public Meetings of the Science Advisory Board Per- and Polyfluoroalkyl Substances (PFAS) Review Panel

AGENCY: Environmental Protection Agency (EPA).

ACTION: Notice.

SUMMARY: The Environmental Protection Agency (EPA) Science Advisory Board (SAB) Staff Office announces four public meetings of the SAB per- and polyfluoroalkyl substances (PFAS) Review Panel (PFAS Review Panel) to review EPA's Proposed Approaches to the Derivation of a Draft Maximum Contaminant Level Goal for Perfluorooctanoic Acid (PFOA) in Drinking Water; EPA's Proposed Approaches to the Derivation of a Draft Maximum Contaminant Level Goal for Perfluorooctanesulfonic Acid (PFOS) in Drinking Water; EPA's Analysis of Cardiovascular Disease Risk Reduction as a Result of Reduced PFOA and PFOS Exposure in Drinking Water; and EPA's Draft Framework for Estimating Noncancer Health Risks Associated with Mixtures of PFAS.

DATES: The public meetings of the Science Advisory Board PFAS Review Panel will be held on Thursday, December 16, 2021, from 12:00 noon to 5:00 p.m. (Eastern Time), Tuesday, January 4, 2022, from 12:00 noon to 5:00 p.m. (Eastern Time), Thursday, January 6, 2022, from 12:00 noon to 5:00 p.m. (Eastern Time), and Friday, January 7, 2022, from 11:00 a.m. to 4:00 p.m. (Eastern Time).

ADDRESSES: The meetings will be conducted virtually. Please refer to the SAB website at https://sab.epa.gov for details on how to access the meetings.

FOR FURTHER INFORMATION CONTACT: Any member of the public who wants further information concerning the public meetings may contact Dr. Suhair Shallal, Designated Federal Officer (DFO), via telephone/voice mail (202) 564-2059, or email at shallal.suhair@epa.gov. General information concerning the SAB can be found on the EPA website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB per- and polyfluoroalkyl substances (PFAS) Review Panel (PFAS Review Panel) will hold four public meetings to review and provide comments on the (1) the health effects data to inform the derivation of proposed Maximum Contaminant Level Goals (MCLG) for PFOA and PFOS; (2) the analysis of health risk reduction benefits of potential decreases in drinking water concentrations of PFOA and PFOS and (3) approaches to assess the cumulative risk among mixtures of PFAS.

Technical Contacts: Any technical questions concerning EPA's document titled, “Proposed Approaches to the Derivation of a Draft Maximum Contaminant Level Goal for Perfluorooctanoic Acid in Drinking Water” and “Proposed Approaches to the Derivation of a Draft Maximum Contaminant Level Goal for Perfluorooctanesulfonic Acid in Drinking Water” should be directed to Brittany Jacobs at jacobs.brittany@epa.gov. Any technical questions concerning EPA's document titled, “Analysis of Cardiovascular Disease Risk Reduction as a Result of Reduced PFOA and PFOS Exposure in Drinking Water” should be directed to Morgan McCabe at mccabe.morgan@epa.gov. Any technical questions concerning EPA's document titled, “Draft Framework for Estimating Noncancer Health Risks Associated with Mixtures of PFAS” should be directed to Colleen Flaherty (flaherty.colleen@epa.gov) and/or Jason Lambert (lambert.jason@epa.gov).

Availability of Meeting Materials: Prior to the meetings, the agenda and other meeting materials for each meeting will be placed on the SAB website at https://sab.epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the committee's charge or meeting materials. Input from the public to the SAB PFAS Review Panel will have the most impact if it provides specific scientific or technical information or analysis for the SAB PFAS Review Panel to consider or if it relates to the clarity or accuracy of the technical information. Members of the public wishing to provide comment should contact the DFO directly.

Oral Statements: In general, individuals or groups requesting an oral presentation at a public meeting will be limited to three minutes. Persons interested in providing oral statements on December 16, 2021, should contact Dr. Sue Shallal, DFO, via email at the contact information noted above by December 9, 2021, to be placed on the list of registered speakers.

Written Statements: Written statements will be accepted throughout the advisory process; however, for timely consideration by SAB RFT Review Panel members, statements should be received in the SAB Staff Office by December 30, 2021, for consideration at the public meeting(s). Written statements should be supplied to the DFO via email at the contact information above. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Shallal at the phone number or email address noted above, preferably at least ten days prior to the meeting, to give the EPA as much time as possible to process your request.

V Khanna Johnston,
Deputy Director, EPA Science Advisory Board Staff Office.

[FR Doc. 2021-24565 Filed 11-9-21; 8:45 am]

BILLING CODE 6560-50-P